DEPARTMENT OF DEFENSE

Department of the Navy

Notice of Intent To Grant Exclusive Patent License: Vytral Systems Co. Ltd, LLC

AGENCY: Department of the Navy, DoD.

ACTION: Notice.

SUMMARY: The Department of the Navy hereby gives notice of its intent to grant to Vytral Systems Co. Ltd, LLC a revocable, nonassignable, partially exclusive license to practice throughout the United States the Government-owned inventions described in U.S. Patent App. No. 11/086,737 (Navy Case Number 95819): Wireless Serial Data Transmission Method and Apparatus and all patents or patent applications: (i) To which any of the above mentioned patents directly claims priority, (ii) for which any of the above mentioned patents directly forms a basis for priority, (iii) that were co-owned applications that directly incorporate by reference, or are incorporated by reference into, any of the above mentioned patents; (iv) reissues, reexaminations, extensions, continuations, continuing prosecution applications, requests for continuing examinations, divisions, and registrations of any of the above mentioned patents; and (v) foreign patents, patent applications and counterparts relating to any of the above mentioned Patents, including, without limitation, certificates of invention, utility models, industrial design protection, design patent protection, and other governmental grants or issuances.

DATES: Anyone wishing to object to the grant of this license has fifteen (15) days from the date of this notice to file written objections along with supporting evidence, if any.

ADDRESSES: Written objections are to be filed with the Naval Undersea Warfare Center Division, Newport, 1176 Howell St., Bldg 990, Code 07TP, Newport, RI 02841.

FOR FURTHER INFORMATION CONTACT: Dr. Theresa A. Baus, Head, Technology Partnership Enterprise Office, Naval Undersea Warfare Center Division, Newport, 1176 Howell St., Bldg 990, Code 07TP, Newport, RI 02841, telephone: 401-832-8728, or E-Mail: Theresa.Baus@navy.mil.

Authority: 35 U.S.C. 207, 37 CFR part 404.

Dated: December 11, 2008.
T. M. Cruz,
Lieutenant Commander, Judge Advocate General's Corps, U.S. Navy, Federal Register Liaison Officer.

[FR Doc. E8-30043 Filed 12-17-08; 8:45 am]

BILLING CODE 5810-FF-P